DEPARTMENT OF LABOR

Office of the Secretary

Bureau of International Labor Affairs; Office of Trade Agreement Implementation; North American Agreement on Labor Cooperation; Notice of Determination Regarding Review of U.S. Submission #2005-03

AGENCY: Bureau of International Labor Affairs, U.S. Department of Labor.

ACTION: Notice.

SUMMARY: The Office of Trade Agreement Implementation (OTAI) gives notice that on January 6, 2006, U.S. Submission #2005-03 was accepted for review pursuant to Article 16(3) of the North American Agreement on Labor Cooperation (NAALC). The submission was filed with the OTAI on October 14, 2005, by The Progressive Union of Workers of the Textile Industry, the Manufacturing, Cutting and Confection of Fabric and Garments in General and Related and Similar Industries in the Mexican Republic, a member of the “Vanguardia Obrera” Workers Federation of the Revolutionary Confederation of Workers and Peasants (FTVO-CROC), with the support of the U.S. Labor Education in the Americas Project and the Washington Office on Latin America. The submitters allege that the Government of Mexico has failed to fulfill its obligations under the NAALC to effectively enforce its labor laws in connection with freedom of association and the right to organize, the right to bargain collectively, the right to strike, prohibition of forced labor, labor protection for children and young persons, elimination of employment discrimination, prevention of occupational injuries and illnesses, compensation in cases of occupational injuries and illnesses, and minimum employment standards related to events at a textile plant operated by Rubie's de Mexico, S. de R.L. de C.V., in the municipality of Tepeji del Rio, State of Hidalgo, Mexico.

Article 16(3) of the NAALC provides for the review of labor law matters in Canada and Mexico by the National Administrative Office (NAO), which was redesignated as the OTAI in a Federal Register Notice issued on December 23, 2004 (69 FR 77128 (2004)). The objectives of the review of the submission will be to gather information to assist the OTAI to better understand and publicly report on the Government of Mexico's compliance with the obligations set forth in the NAALC.

EFFECTIVE DATE: January 6, 2006.

FOR FURTHER INFORMATION CONTACT: Peter Accolla, Acting Director, Office of Trade Agreement Implementation, U.S. Department of Labor, 200 Constitution Avenue, NW., Room S-5205, Washington, DC 20210. Telephone: (202) 693-4900 (this is not a toll-free number).

SUPPLEMENTARY INFORMATION: On October 14, 2005, U.S. Submission #2005-03 was filed by The Progressive Union of Workers of the Textile Industry, the Manufacturing, Cutting and Confection of Fabric and Garments in General and Related and Similar Industries in the Mexican Republic, a member of the “Vanguardia Obrera” Workers Federation of the Revolutionary Confederation of Workers and Peasants (FTVO-CROC), with the support of the U.S. Labor Education in the Americas Project, and the Washington Office on Latin America under the NAALC concerning the enforcement of labor laws by the Government of Mexico. The submission focuses on events at a textile plant operated by Rubie's de Mexico, S. de R.L. de C.V., in the municipality of Tepeji del Rio, State of Hidalgo, Mexico.

The submitters allege that the Government of Mexico has failed to fulfill its obligations under the NAALC to effectively enforce its labor law under Article 3 in connection with freedom of association and protection of the right to organize, the right to bargain collectively, the right to strike, prohibition of forced labor, labor protections for children and young persons, minimum employment standards, elimination of employment discrimination, prevention of occupational injuries and illnesses, and compensation in cases of occupational injuries and illnesses, and under Article 5 with respect to fair, equitable and transparent labor tribunal proceedings.

The submission focuses on the submitter's attempts to organize a union at a plant operated by Rubie's de Mexico, S. de R.L. de C.V., in the municipality of Tepeji del Rio, State of Hidalgo, alleging that Mexico's Federal Conciliation and Arbitration Board No. 6 and Local Conciliation and Arbitration Board No. 51 failed to provide workers with fair, equitable and transparent proceedings to enforce their right to form a union to represent the workers in collective bargaining. Allegations also include failure on the part of state and federal authorities to provide effective onsite inspections and remedies for labor law violations concerning forced labor, minimum wage, overtime pay, prevention of discrimination, occupational safety and health, and child labor. Finally, the submitters assert that the actions and/or inaction by the Government of Mexico represent a pattern of non-enforcement of its labor laws.

The Procedural Guidelines for the OTAI, published in the Federal Register on April 7, 1994, 59 FR 16660, specify that, in general, the Secretary of the NAO shall accept a submission for review if it raises issues relevant to labor law matters in Canada or Mexico and if a review would further the objectives of the NAALC.

U.S. Submission #2005-03, which alleges that Mexico has failed to effectively enforce its labor law under NAALC Articles 3 and 5, relates to labor law matters in Mexico. A review would further the objectives of the NAALC, as set out in Article 1 of the NAALC, among them improving working conditions and living standards in each Party's territory, promoting the NAALC's labor principles, and encouraging publication and exchange of information, data development, and coordination to enhance mutually beneficial understanding of the laws and institutions governing labor in each Party's territory. Accordingly, this submission has been accepted for review under Section G of the OTAI Procedural Guidelines.

The OTAI's decision is not intended to indicate any determination as to the validity or accuracy of the allegations contained in the submission. The objectives of the review will be to gather information to assist the OTAI to better understand and publicly report on the issues of freedom of association and protection of the right to organize, the right to bargain collectively, the right to strike, prohibition of forced labor, labor protections for children and young persons, minimum employment standards, elimination of employment discrimination, prevention of occupational injuries and illnesses, and compensation in cases of occupational injuries and illnesses, including the Government of Mexico's compliance with the obligations agreed to under Articles 3 and 5 of the NAALC. The review will be completed, and a public report issued, within 120 days, or 180 days if circumstances require an extension of time, as set out in the Procedural Guidelines of the OTAI.

Signed at Washington, DC on January 6, 2006.
Peter Accolla,
Acting Director, Office of Trade Agreement Implementation.

[FR Doc. E6-228 Filed 1-11-06; 8:45 am]

BILLING CODE 4510-28-P